ENVIRONMENTAL PROTECTION AGENCY

40 CFR Part 300

[EPA-HQ-SFUND-1983-0002; FRL-9922-36-Region-2]

National Oil and Hazardous Substances Pollution Contingency Plan; National Priorities List: Partial Deletion of the Fulton Terminals Superfund Site

AGENCY: Environmental Protection Agency.

ACTION: Proposed rule; notice of intent for partial deletion.

SUMMARY: The Fulton Terminals Superfund site (Site), located in the City of Fulton, Oswego County, New York, consists of an “On-Property” portion, an approximately 1.5-acre parcel of land bounded on the west by First Street, on the south by Shaw Street, on the east by New York State Route 481 and on the north by a warehouse, and an “Off-Property” portion, defined by the area between the On-Property portion's western property boundary to the Oswego River (approximately 50 feet).

The Environmental Protection Agency (EPA), Region 2, is issuing this Notice of Intent for Partial Deletion (NOIPD) of the On-Property portion of the Site from the National Priorities List (NPL) and requests public comments on this proposed action. The NPL, promulgated pursuant to Section 105 of the Comprehensive Environmental Response, Compensation and Liability Act (CERCLA) of 1980, as amended, is an appendix of the National Oil and Hazardous Substances Pollution Contingency Plan (NCP). EPA and the State of New York, through the New York State Department of Environmental Conservation (NYSDEC), have determined that all appropriate response actions under CERCLA have been completed at the Site and that the soil on the On-Property portion of the Site and the groundwater beneath the On-Property portion of the Site no longer pose a threat to public health or the environment. Therefore, EPA and NYSDEC have concluded that this NOIPD, which pertains only to the On-Property portion of the Site, may proceed. The Off-Property portion of the Site will remain on the NPL. Because residual groundwater contamination remains in the Off-Property portion of the Site, groundwater monitoring and five-year reviews will still be required for this the Off-Property portion of the Site.

DATES: Comments must be received by March 6, 2015.

ADDRESSES: Submit your comments, identified by Docket ID no. EPA-HQ-SFUND-1983-0002, by mail to Christos Tsiamis, Remedial Project Manager, Emergency and Remedial Response Division, U.S. Environmental Protection Agency, Region 2, 290 Broadway, 20th Floor, New York, NY, 10007-1866. Comments may also be submitted electronically or through hand delivery/courier by following the detailed instructions in the Addresses section of the direct final rule located in the rules section of this Federal Register.

FOR FURTHER INFORMATION CONTACT: Mr. Tsiamis at the address noted above or by email at tsiamis.christos@epa.gov.

SUPPLEMENTARY INFORMATION: In the “Rules and Regulations” Section of today's Federal Register, EPA is publishing a direct final Notice of Partial Deletion (NOPD) of the Site without prior NOIPD because EPA views this as a noncontroversial revision and anticipates no adverse comment. EPA has explained its reasons for this partial deletion in the preamble to the direct final Notice of Partial Deletion. If EPA receives no adverse comment(s) on this NOIPD or the direct final NOPD, EPA will proceed with the partial deletion without further action on this NOIPD. If EPA receives adverse comment(s), EPA will withdraw the direct final NOPD, and it will not take effect. EPA will, as appropriate, address all public comments in a subsequent final NOPD based on this NOIPD. EPA will not institute a second comment period on this NOIPD. Any parties interested in commenting must do so at this time.

For additional information, see the direct final NOPD, which is located in the “Rules” section of this Federal Register.

List of Subjects in 40 CFR Part 300

Environmental protection, Air pollution control, Chemicals, Hazardous waste, Hazardous substances, Intergovernmental relations, Penalties, Reporting and recordkeeping requirements, Superfund, Water pollution control, Water supply.

Authority: 33 U.S.C. 1321(c)(2); 42 U.S.C. 9601-9675; E.O. 12777, 56 FR 54757, 3 CFR, 1991 Comp., p. 351; E.O. 12580, 52 FR 2923, 3 CFR, 1987 Comp., p. 193.

Dated: January 6, 2015.
Judith A. Enck,
Regional Administrator, EPA Region 2.

[FR Doc. 2015-02268 Filed 2-3-15; 8:45 am]

BILLING CODE 6560-50-P